DEPARTMENT OF VETERANS AFFAIRS

Research Advisory Committee on Gulf War Veterans' Illnesses, Notice of Meeting

The Department of Veterans Affairs (VA) gives notice under the Federal Advisory Committee Act, 5 U.S.C. App., that the Research Advisory Committee on Gulf War Veterans' Illnesses will meet on June 17 and 18, 2013, in room 230 at VA Central Office, 810 Vermont Avenue, Washington, DC. The meeting will start at 8 a.m. each day and adjourn at 5:30 p.m. on June 17 and at 12:30 p.m. on June 18. All sessions will be open to the public.

The purpose of the Committee is to provide advice and make recommendations to the Secretary of Veterans Affairs on proposed research studies, research plans and research strategies relating to the health consequences of military service in the Southwest Asia theater of operations during the Gulf War.

The Committee will review VA program activities related to Gulf War Veterans' illnesses and updates on relevant scientific research published since the last Committee meeting. The research presentations on June 17 will involve genomics, proteomics, and neuroimaging techniques currently being evaluated for diagnosing and treating Gulf War Veterans, and a drug treatment trial which is underway. On June 18, the Committee will receive updates on VA Gulf War research initiatives and ethics training. Both sessions will also include discussion of Committee business and activities.

The meeting will include time reserved for public comments on both days in the afternoon. A sign-up sheet for five-minute comments will be available at the meeting. Individuals who speak are invited to submit a 1-2 page summary of their comments at the time of the meeting for inclusion in the official meeting record. Members of the public may also submit written statements for the Committee's review to Dr. Roberta White, Scientific Director, at VA Boston Healthcare System, Environmental Hazards Research Center and Neuropsychology, 116B-4, 150 South Huntington Avenue, Boston, MA 02130 or email at rwhite@bu.edu.

Because the meeting is being held in a government building, a photo I.D. must be presented at the Guard's Desk as a part of the clearance process. Therefore, you should allow an additional 15 minutes before the meeting begins. Any member of the public seeking additional information should contact Dr. White at (617) 638-4620 or Dr. Victor Kalasinsky, Designated Federal Officer, at (202) 443-5682.

Dated: June 11, 2013.
By Direction of the Secretary.
Vivian Drake,
Committee Management Officer.

[FR Doc. 2013-14243 Filed 6-14-13; 8:45 am]

BILLING CODE P